DEPARTMENT OF VETERANS AFFAIRS

[OMB Control No. 2900-0682]

Proposed Information Collection (Advertising, Sales, and Enrollment Materials, and Candidate Handbooks) Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on the information needed to ensure that educational institutions or agents enrollment materials meet VA's guidelines for approval of courses.

DATES: Written comments and recommendations on the proposed collection of information should be received on or before May 29, 2009.

ADDRESSES: Submit written comments on the collection of information through Federal Docket Management System (FDMS) at http://www.Regulations.gov or to Nancy J. Kessinger, Veterans Benefits Administration (20M35), Department of Veterans Affairs, 810 Vermont Avenue, NW., Washington, DC 20420 or e-mail to nancy.kessinger@va.gov. Please refer to “OMB Control No. 2900-0682” in any correspondence. During the comment period, comments may be viewed online through FDMS.

FOR FURTHER INFORMATION CONTACT: Nancy J. Kessinger at (202) 461-9769 or FAX (202) 275-5947.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Advertising, Sales, and Enrollment Materials, and Candidate Handbooks, 38 CFR 21.4252(h).

OMB Control Number: 2900-0682.

Type of Review: Extension of a currently approved collection.

Abstract: VA approved educational institutions offering courses approved for the enrollment of veterans, or eligible persons, and organizations or entities offering licensing or certification tests approved for payment of educational assistance as reimbursement to veterans or eligible persons who took such tests, must maintain a complete record of all advertising, sales materials, enrollment materials, or candidate handbooks that educational institutions or its agents used during the preceding 12-month period. The materials are examined by VA and State Approving Agency employees to ensure that educational institutions or its agents are following VA approval guidelines.

Affected Public: Individuals or households.

Estimated Annual Burden: 1,125 hours.

Estimated Average Burden per Respondent: 15 minutes.

Frequency of Response: On occasion.

Estimated Number of Respondents: 4,498.

Dated: March 25, 2009.
By direction of the Secretary.
Denise McLamb,
Program Analyst, Enterprise Records Service.

[FR Doc. E9-7009 Filed 3-27-09; 8:45 am]

BILLING CODE